DEPARTMENT OF HOUSING AND URBAN DEVELOPMENT

[Docket No. FR-4769-N-01]

Notice of Availability of HUD Information Quality Guidelines and Request for Public Comment

AGENCY: Office of the Assistant Secretary for Administration, HUD.

ACTION: Notice.

SUMMARY: Through this notice, HUD is advising the public that its draft for ensuring and maximizing the quality, objectivity, utility and integrity of information disseminated to the public by HUD (“Information Quality Guidelines”) is available for review and comment on HUD's Web site at www.hud.gov.

DATES: Comments on HUD's Information Quality Guidelines will be accepted through July 1, 2002.

ADDRESSES: Interested persons are invited to submit comments regarding this notice to the Rules Docket Clerk, Office of General Counsel, Room 10276, Department of Housing and Urban Development, 451 Seventh Street, SW., Washington, DC 20410-0500. Communications should refer to the above docket number and title. A copy of each communication submitted will be available for public inspection and copying between 7:30 a.m. and 5:30 p.m. weekdays at the above address.

FOR FURTHER INFORMATION CONTACT: Barbara Dorf, Director, Office of Grant Management and Compliance, Office of Administration, Department of Housing and Urban Development, Room 2182, 451 Seventh Street, SW., Washington, DC 20410-0500; telephone—(202) 708-0667 (this is not a toll-free number). Hearing or speech-impaired individuals may access this number via TTY by calling the toll-free Federal Information Relay Service at (800) 877-8399.

SUPPLEMENTARY INFORMATION: Section 515 of the Treasury and General Government Appropriations Act for Fiscal Year 2001 (Pub. L. 106-554) directed the Office of Management and Budget (OMB) to issue government-wide guidelines that “provide policy and procedural guidance to Federal agencies for ensuring and maximizing the quality, objectivity, utility and integrity of information (including statistical information) disseminated by Federal agencies.” Within one year after OMB issues its guidelines, agencies must issue their own guidelines that will describe internal mechanisms by which agencies will ensure that their information meets the standards of quality, objectivity, utility and integrity. The mechanism also must allow affected persons to seek and obtain correction of information maintained and disseminated by the agency that does not comply with the guidelines.

OMB issued its final guidelines on September 28, 2001 (66 FR 49718), but requested additional comment on one component of the OMB guidelines. The OMB guidelines addressing additional public comment were published on January 3, 2002 (67 FR 369) and republished on February 22, 2002 (67 FR 6452).

Agencies must issue their final guidelines by October 1, 2002. OMB is also requiring that agencies issue draft guidelines for public comment by May 1, 2002. The agencies' draft guidelines need not be published in the Federal Register but agencies should provide notification in the Federal Register that the draft guidelines are available on agencies' Web sites.

This notice advises the public that HUD's draft guidelines are available on its Web site for review and public comment. While the public is reviewing these guidelines and providing comment, HUD will continue to review as well. HUD will notify the public of any significant changes made as a result of internal HUD review and provide the opportunity for further public comment. By July 1, 2002, OMB is requiring agencies to submit draft guidelines to OMB for review that take into consideration public comment.

HUD welcomes your comments on the draft guidelines.

Dated: May 22, 2002.
Vickers B. Meadows,
Assistant Secretary for Administration.

[FR Doc. 02-13414 Filed 5-29-02; 8:45 am]

BILLING CODE 4210-01-P